INTERNATIONAL TRADE COMMISSION

[USITC SE-14-016]

Government in the Sunshine Act Meeting; Change of Time of Sunshine Act Meeting

AGENCY HOLDING THE MEETING: United States International Trade Commission.

DATE: May 23, 2014.

NEW TIME: 10:00 a.m.

PLACE: Room 101, 500 E Street SW., Washington, DC 20436, Telephone: (202) 205-2000.

STATUS: Open to the public.

In accordance with 19 CFR 201.35(d)(1), the Commission hereby gives notice that the meeting of May 23, 2014 will be held at 10:00 a.m.

In accordance with Commission policy, subject matter listed above, not disposed of at the scheduled meeting, may be carried over to the agenda of the following meeting. Earlier notification of this change was not possible.

By order of the Commission:
Issued: May 19, 2014.
William R. Bishop,
Supervisory Hearings and Information Officer.

[FR Doc. 2014-11876 Filed 5-19-14; 4:15 pm]

BILLING CODE 7020-02-P